DEPARTMENT OF TRANSPORTATION

National Highway Traffic Safety Administration

[Docket No. NHTSA-2017-0028, Notice 2]

Decision That Nonconforming Model Year 2014 Ferrari LaFerrari Passenger Cars Are Eligible for Importation

AGENCY: National Highway Traffic Safety Administration (NHTSA), Department of Transportation (DOT).

ACTION: Grant of petition.

SUMMARY: This document announces a decision by the National Highway Traffic Safety Administration that certain Model Year (MY) 2014 Ferrari LaFerrari passenger cars (PCs) that were not originally manufactured to comply with all applicable Federal Motor Vehicle Safety Standards (FMVSS) are eligible for importation into the United States because the 2014 model year vehicles are substantially similar to vehicles that were originally manufactured for importation into and offered for sale in the United States and certified to all applicable FMVSS (the U.S-certified version of the 2014 Ferrari LaFerrari PCs) or are capable of being altered to comply with all applicable FMVSS.

DATES: This decision became effective on December 10, 2019.

FOR FURTHER INFORMATION CONTACT: Robert Mazurowski, Office of Vehicle Safety Compliance, NHTSA (202-366-1012).

SUPPLEMENTARY INFORMATION:

Background

Under 49 U.S.C. § 30141(a)(l)(A), a motor vehicle that was not originally manufactured to conform to all applicable FMVSS shall be refused admission into the United States unless NHTSA has decided that the motor vehicle is substantially similar to a motor vehicle originally manufactured for importation into and sale in the United States, certified under 49 U.S.C. § 30115, and of the same model year as the model of the motor vehicle to be compared, and is capable of being readily altered to conform to all applicable FMVSS.

Under 49 U.S.C. 30141(a)(l)(B), a motor vehicle that was not originally manufactured to conform to all applicable FMVSS shall be refused admission into the United States unless NHTSA has decided its safety features comply with, or are capable of being altered to comply with, all applicable FMVSS based on destructive test data or such other evidence that NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J.K. Technologies, LLC, (Registered Importer R-90-006), of Baltimore, Maryland, petitioned NHTSA to decide whether MY 2014 Ferrari LaFerrari PCs are eligible for importation into the United States. NHTSA published a notice of the petition on October 10, 2019 (84 FR 54727) to afford an opportunity for public comment. The reader is referred to the notice for a thorough description of the petition.

Comments

Two comments were submitted to this docket The first comment stated “Luxury cars should not be afforded any other exceptions or privileges that non-luxury cars are”. This statement is considered non-substantive as all vehicles are held to the same safety standards regardless of value. The second comment is a detailed analysis in support of granting the petition and echoing the petitioners reasonings.

NHTSA Conclusions

In its petition, J.K. Technologies noted that the original manufacturer, Ferrari, certified the MY 2014 Ferrari LaFerrari PCs to all applicable FMVSS and offered those vehicles for sale in the United States.

NHTSA has reviewed the petition and has concluded that the nonconforming versions of the MY 2014 Ferrari LaFerrari PCs described in the petition are substantially similar to the U.S.-certified versions of the MY 2014 Ferrari LaFerrari PCs and are capable of being readily altered to comply with all applicable FMVSS.

NHTSA has also determined that any RI who imports or modifies one of these vehicles must include in the statement of conformity and associated documents (referred to as a “conformity package”) it submits to NHTSA under 49 CFR 592.6(d) additional specific proof to confirm that the vehicle was manufactured to conform to, or was successfully altered to conform to, FMVSS No. 138, Tire Pressure Monitoring Systems, and FMVSS No. 208, Occupant Protection. This proof must include detailed descriptions of all modifications made to achieve conformity with those standards, including a detailed description of systems in place (if any) on the vehicle at the time it was delivered to the RI and a similarly detailed description of the systems in place after the vehicle is altered, including photographs of all required labeling. The description must also include parts assembly diagrams and associated part numbers for all components that were removed from or installed on the vehicle, a description of bow any computer programming changes were completed, and a description of bow compliance was verified after alterations were completed. Photographs (e.g., monitor print screen captures) or report printouts, as practicable, must be submitted as proof that any computer reprogramming was carried out successfully.

In addition to the information specified above, each conformity package must also include evidence showing how the RI verified that any changes it made in loading or reprograming vehicle software to achieve conformity with each separate FMVSS did not cause the vehicle to fall out of compliance with any other applicable FMVSS.

Decision

Accordingly, on the basis of the foregoing, NHTSA hereby decides that MY 2014 Ferrari LaFerrari PCs that were not originally manufactured to comply with all applicable FMVSS are substantially similar to 2014 Ferrari LaFerrari PCs manufactured for importation into and/or sale in the United States, and certified under 49 U.S.C. 30115, are capable of being altered to conform to all applicable FMVSS.

Vehicle Eligibility Number for Subject Vehicles

The importer of a vehicle admissible under any final decision must indicate on the form HS-7 accompanying entry the appropriate vehicle eligibility number indicating that the vehicle is eligible for entry. VSP-609 is the vehicle eligibility number assigned to MY 2014 Ferrari LaFerrari PCs admissible under this notice of final decision.

Authority: (49 U.S.C. 30141(a)(l)(A), (a)(l)(B), and (b)(l); 49 CFR 593.7; delegation of authority at 49 CFR 1.95 and 501.8)

Otto G. Matheke III,
Director, Office of Vehicle Safety Compliance.

[FR Doc. 2020-08149 Filed 4-16-20; 8:45 am]

BILLING CODE 4910-59-P